DEPARTMENT OF ENERGY

Federal Energy Regulatory Commission

Combined Notice of Filings #1

Take notice that the Commission received the following exempt wholesale generator filings:

Docket Numbers: EG21-224-000.

Applicants: PGR 2021 Lessee 7, LLC.

Description: Notice of Self-Certification of Exempt Wholesale Generator of EG or FC of PGR 2021 Lessee 7, LLC.

Filed Date: 8/23/21.

Accession Number: 20210823-5129.

Comment Date: 5 p.m. ET 9/13/21.

Take notice that the Commission received the following electric rate filings:

Docket Numbers: ER21-2280-001.

Applicants: Independence Wind Energy LLC.

Description: Tariff Amendment: Amendment to MBR Application to be effective 8/30/2021.

Filed Date: 8/24/21.

Accession Number: 20210824-5034.

Comment Date: 5 p.m. ET 9/14/21.

Docket Numbers: ER21-2694-001.

Applicants: PJM Interconnection, L.L.C.

Description: Tariff Amendment: Amendment to ISA, SA No. 5481; Queue No. AF1-014 (consent) to be effective 7/16/2021.

Filed Date: 8/24/21.

Accession Number: 20210824-5068.

Comment Date: 5 p.m. ET 9/14/21.

Docket Numbers: ER21-2732-000.

Applicants: Kansas Power Pool.

Description: Request for Limited Waiver of Formula Rate Deadlines, et al. of the Kansas Power Pool.

Filed Date: 8/20/21.

Accession Number: 20210820-5243.

Comment Date: 5 p.m. ET 8/26/21.

Docket Numbers: ER21-2748-000.

Applicants: Lund Hill Solar, LLC, Bracewell LLP.

Description: Baseline eTariff Filing: Lund Hill Solar, LLC submits tariff filing per 35.12: Application for Market-Based Rate Authorization, Request for Related Waivers to be effective 9/15/2021.

Filed Date: 8/23/21.

Accession Number: 20210823-5199.

Comment Date: 5 p.m. ET 9/13/21.

Docket Numbers: ER21-2749-000.

Applicants: Northern Indiana Public Service Company LLC.

Description: § 205(d) Rate Filing: Supplement to WVPA IA to Remove Delivery Point to be effective 8/1/2021.

Filed Date: 8/23/21.

Accession Number: 20210823-5201.

Comment Date: 5 p.m. ET 9/13/21.

Docket Numbers: ER21-2750-000.

Applicants: PJM Interconnection, L.L.C.

Description: PJM Interconnection, L.L.C. submits Petition for Termination of Waiver associated with Peak Shaving Adjustment Deadline.

Filed Date: 8/23/21.

Accession Number: 20210823-5241.

Comment Date: 5 p.m. ET 9/3/21.

Docket Numbers: ER21-2752-000.

Applicants: Midcontinent Independent System Operator, Inc.

Description: § 205(d) Rate Filing: 2021-08-24_SA 3489 Duke-Speedway Solar 1st Rev GIA (J805) to be effective 8/9/2021.

Filed Date: 8/24/21.

Accession Number: 20210824-5046.

Comment Date: 5 p.m. ET 9/14/21.

Docket Numbers: ER21-2753-000.

Applicants: California Independent System Operator Corporation.

Description: Compliance filing: 2021-08-24 Waiver Petition—Expedited Comment & Approval—Emergency Generation to be effective N/A.

Filed Date: 8/24/21.

Accession Number: 20210824-5058.

Comment Date: 5 p.m. ET 8/31/21.

Docket Numbers: ER21-2754-000.

Applicants: Puget Sound Energy, Inc.

Description: Puget Sound Energy, Inc. submits Average System Cost Filing for Sales of Electric Power to the Bonneville Power Administration, FY 2022-2023.

Filed Date: 8/20/21.

Accession Number: 20210820-5253.

Comment Date: 5 p.m. ET 9/10/21.

Docket Numbers: ER21-2755-000.

Applicants: Effingham County Power, LLC.

Description: Tariff Amendment: Notice of Cancellation of FERC Electric Tariff No. 1 and Tariff ID to be effective 12/31/9998.

Filed Date: 8/24/21.

Accession Number: 20210824-5067.

Comment Date: 5 p.m. ET 9/14/21.

Docket Numbers: ER21-2756-000.

Applicants: Southern California Edison Company.

Description: § 205(d) Rate Filing: Amended CLGIA & DSA Mesa Wind Power Corporation SA Nos. 395-396 to be effective 8/25/2021.

Filed Date: 8/24/21.

Accession Number: 20210824-5075.

Comment Date: 5 p.m. ET 9/14/21.

Docket Numbers: ER21-2757-000.

Applicants: PJM Interconnection, L.L.C.

Description: § 205(d) Rate Filing: Original WMPA 6160; Queue No. AG1-362 to be effective 7/27/2021.

Filed Date: 8/24/21.

Accession Number: 20210824-5088.

Comment Date: 5 p.m. ET 9/14/21.

Take notice that the Commission received the following electric securities filings:

Docket Numbers: ES21-66-000.

Applicants: Southwest Power Pool, Inc.

Description: Application Under Section 204 of the Federal Power Act for Authorization to Issue Securities of Southwest Power Pool, Inc.

Filed Date: 8/24/21.

Accession Number: 20210824-5081.

Comment Date: 5 p.m. ET 9/14/21.

Take notice that the Commission received the following qualifying facility filings:

Docket Numbers: QF21-1186-000.

Applicants: Techni-Cast Corp.

Description: Form 556 of Techni-Cast Corp.

Filed Date: 8/23/21.

Accession Number: 20210823-5222.

Comment Date: 5 p.m. ET 9/13/21.

The filings are accessible in the Commission's eLibrary system ( https://elibrary.ferc.gov/idmws/search/fercgensearch.asp ) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 24, 2021.
Kimberly D. Bose,
Secretary.

[FR Doc. 2021-18616 Filed 8-27-21; 8:45 am]

BILLING CODE 6717-01-P